DEPARTMENT OF COMMERCE

International Trade Administration

[A-421-811]

Purified Carboxymethylcellulose from the Netherlands: Partial Rescission of Antidumping Duty Administrative Review

AGENCY: Import Administration, International Trade Administration, Department of Commerce.

SUMMARY: In response to requests from respondent Akzo Nobel Functional Chemicals B.V. (“Akzo Nobel”), and Aqualon Company (“petitioner”), the Department of Commerce (“the Department”) initiated an administrative review of the antidumping duty order on purified carboxymethylcellulose (“CMC”) from the Netherlands. See Initiation of Antidumping and Countervailing Duty Administrative Reviews and Request for Revocation in Part, 72 FR 48613 (August 24, 2007). This administrative review covers the period July 1, 2006, through June 30, 2007. Due to the withdrawal of the requests for the administrative review by both parties, we are now rescinding this review with respect to Akzo Nobel.

EFFECTIVE DATE: November 16, 2007.

FOR FURTHER INFORMATION CONTACT: John Drury or Angelica Mendoza, AD/CVD Operations, Office 7, Import Administration, International Trade Administration, U.S. Department of Commerce, 14th Street and Constitution Avenue, NW, Room 7866, Washington, DC 20230; telephone: (202) 482-0195 or (202) 482-3019, respectively.

SUPPLEMENTARY INFORMATION:

Background

The Department published an antidumping duty order on CMC from the Netherlands on July 11, 2005. See Notice of Antidumping Duty Orders: Purified Carboxymethylcellulose from Finland, Mexico, the Netherlands and Sweden, 70 FR 39734 (July 11, 2005). The Department published a notice of “Opportunity to Request an Administrative Review” of the antidumping duty order for the period July 1, 2006, through June 30, 2007, on July 3, 2007. See Antidumping or Countervailing Duty Order, Finding, or Suspended Investigation; Opportunity To Request Administrative Review, 72 FR 36420 (July 3, 2007). Petitioner requested that the Department conduct an administrative review of sales of merchandise by Akzo Nobel and CP Kelco B.V. covered by the order on July 25, 2007. Akzo Nobel requested that the Department conduct an administrative review of its sales of merchandise covered by the order on July 30, 2007. In response to both requests, the Department published the initiation of the antidumping duty administrative review on CMC from the Netherlands on August 24, 2007. See Initiation of Antidumping and Countervailing Duty Administrative Reviews and Request for Revocation in Part, 72 FR 48613 (August 24, 2007).

Akzo Nobel withdrew its request for review on October 2, 2007. Petitioner withdrew its request for review of sales by Akzo Nobel on October 3, 2007.

Rescission of the Administrative Review

Pursuant to 19 CFR § 351.213(d)(1), the Secretary will rescind an administrative review under this section, in whole or in part, if a party that requested a review withdraws the request within 90 days of the date of publication of notice of initiation of the requested review. The Secretary may extend this time limit if the Secretary decides that it is reasonable to do so. See 19 CFR § 351.213(d)(1). Both petitioner and Akzo Nobel withdrew their requests for review with respect to the latter within the 90-day time limit. Therefore, in response to the withdrawal of requests for administrative reviews by both Akzo Nobel and petitioner, the Department hereby rescinds the administrative review of the antidumping duty order on CMC from the Netherlands for the period July 1, 2006, through June 30, 2007, for Akzo Nobel. The Department intends to issue assessment instructions to the U.S. Customs and Border Protection (“CBP”) 15 days after the date of publication of this partial rescission of administrative review. The Department will direct CBP to assess antidumping duties for Akzo Nobel at the cash deposit rate in effect on the date of entry for entries during the period July 1, 2006, to June 30, 2007.

This notice serves as a reminder to parties subject to administrative protective order (“APO”) of their responsibility concerning the disposition of proprietary information disclosed under APO in accordance with 19 CFR § 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR § 351.213(d)(4).

Dated: November 7, 2007.
Stephen J. Claeys,
Deputy Assistant Secretary for Import Administration.

[FR Doc. E7-22500 Filed 11-15-07 8:45 am]

BILLING CODE 3510-DS-S